DEPARTMENT OF THE INTERIOR

Office of Surface Mining Reclamation and Enforcement

Watershed Cooperative Agreement Program

AGENCY: Office of Surface Mining Reclamation and Enforcement, Interior.

ACTION: Extension of time to submit applications for the Watershed Cooperative Agreement Program.

SUMMARY: The Office of Surface Mining Reclamation and Enforcement (OSM) of the U.S. Department of the Interior (DOI) published a Federal Register notice on December 27, 1999 (64 FR 72360), soliciting applications for funding under the Watershed Cooperative Agreement Program. This notice extends the time for submitting applications until September 15, 2000, or until all available funds have been awarded.

DATES: Applications for the cooperative agreements will be accepted until September 15, 2000, or until all available funds have been awarded. Applications should be submitted to the appropriate individual listed under ADDRESSES AND FURTHER INFORMATION.

ADDRESSES AND FURTHER INFORMATION: Requests for an application package, which includes additional information on the program, the application forms and evaluation criteria, should be directed to the appropriate Appalachian Clean Streams Coordinator: Alabama: Jeannie O'Dell, Birmingham Field Office, 135 Gemini Circle, Suite 215, Homewood, AL 35209, Telephone 205-290-7282, ext. 21; Illinois: Ken Foit, Indianapolis Field Office, Minton-Capehart Federal Building, 575 N. Pennsylvania Street, Room 392, Indianapolis, IN 46204, Telephone 317-226-6166 ext 230; Indiana: Michael Kalagian, Indianapolis Field Office, Minton-Capehart Federal Building, 575 N. Pennsylvania Street, Room 392, Indianapolis, IN 46204, Telephone 317-226-6166 ext 234; Iowa: Stephen Preston, Mid-Continent Regional Coordinating Center, Alton Federal Center, 501 Belle Street, Room 216, Alton, IL 62002, Telephone 618-463-6463 ext 120; Kentucky: Dave Beam, Lexington Field Office, 2675 Regency Road, Lexington, KY 40503, Telephone 859-260-8407; Maryland: Peter Hartman, Appalachian Regional Coordinating Center, 3 Parkway Center, Pittsburgh, PA 15220, Telephone 412-937-2905; Missouri: Jeff Gillespie, Mid-Continent Regional Coordinating Center, Alton Federal Center, 501 Belle Street, Room 216, Alton, IL 62002, Telephone 618-463-6463 ext 128; Ohio: Max Luehrs, Columbus Area Office, 4480 Refugee Road, Suite 201, Columbus, OH 43232, Telephone 614-866-0578 ext. 110; Oklahoma: Daniel Trout, Tulsa Field Office, 5100 East Skelly Drive S-550, Tulsa, OK 74135, Telephone 918-581-6430 ext 25; Pennsylvania: David Hamilton, Harrisburg Field Office, 415 Market Street, Suite 3, Harrisburg, PA 17101, Telephone 717-782-2285, ext 15; Tennessee: Danny Ellis, Knoxville Field Office, 530 Gay Street, Suite 500, Knoxville, TN 37902, Telephone 423-545-4193 ext 147; Virginia: Ronnie Vicars, Big Stone Gap Field Office, 1941 Neeley Road, Suite 201, Compartment 116, Big Stone Gap, VA 24219, Telephone 540-523-0024, ext 33; West Virginia: Rick Buckley, Charleston Field Office, 1027 Virginia Street East, Charleston, WV 25301, Telephone 304-347-7162 ext 3024.

SUPPLEMENTARY INFORMATION: For Fiscal Year 2000, OSM expects to award up to 1.75 million dollars to eligible not-for-profit groups to undertake actual construction projects to clean up streams impacted by acid mine drainage. The cooperative agreements normally will be in the $5,000-$80,000 range in order to assist as many groups as possible. The cooperative agreements will have a performance period of two years. Eligible applicants are not-for-profit, established organizations with IRS 501(c)(3) status. Applicants must have partners, contributing either funding or in-kind services; the partners must provide a substantial portion of the total resources needed to complete the project.

Projects in the following States are eligible: Alabama, Illinois, Indiana, Iowa, Kentucky, Maryland, Missouri, Ohio, Oklahoma, Pennsylvania, Tennessee, Virginia and West Virginia. Projects must meet eligibility criteria for coal projects outlined in Section 404 of the Surface Mining Control and Reclamation Act of 1977:

Lands and water eligible for reclamation or drainage abatement expenditures under this title are those which were mined for coal or which were affected by such mining, wastebanks, coal processing, or other coal mining processes * * * and abandoned or left in an adequate reclamation status prior to the date of enactment of this Act [August 3, 1977], and for which there is no continuing reclamation responsibility under State or other Federal laws.

There must be demonstrated public support for the project. The project should propose to use proven or innovative technology that has a high probability of success. The project must produce tangible results, e.g., fishery restored, stream miles improved, educational and community benefits, pollutants removed from the streams. The funds must be used primarily for the construction phase of a project; reimbursement of administrative costs will be carefully scrutinized. There must be a plan to address any ongoing operation/maintenance considerations.

Two copies of a complete application should be submitted to the appropriate Appalachian Clean Streams Coordinator identified under ADDRESSES AND FURTHER INFORMATION. Awards are subject to the availability of funds. Applications will receive technical and financial management reviews.

The application deadline was June 1, 2000. However, because there are funds remaining, OSM is extending the application period. Applications will now be accepted through September 15, 2000, or until all available funds have been awarded.

Dated: May 23, 2000.
Kathrine Henry,
Acting Director, Office of Surface Mining Reclamation and Enforcement.

[FR Doc. 00-13552 Filed 5-30-00; 8:45 am]

BILLING CODE 4310-05-M